DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of 13 vessels identified as blocked property that have been removed from OFAC's SDN List because they were determined to be no longer operating or to have had their original construction cancelled. Property and interests in property relating to these vessels are no longer blocked, and U.S. persons are no longer generally prohibited from engaging in transactions relating to the vessels.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Action(s)

On July 12, 2012 and March 14, 2013, OFAC identified the following 13 vessels as property in which a blocked person has an interest pursuant to Executive order 13599 of February 5, 2012, “Blocking Property of the Government of Iran and Iranian Financial Institutions.” On April 27, 2023, OFAC determined that the property and interests in property subject to U.S. jurisdiction of the following vessels are no longer blocked because the vessels were determined to be no longer operating or to have had their original construction cancelled, and therefore the vessels have been removed from the SDN List.

Vessels

1. NAINITAL (f.k.a. MIDSEA; f.k.a. MOTION; f.k.a. NAJM) (T2DR4) Crude Oil Tanker 298,731DWT 156,809GRT None Identified flag; Former Vessel Flag Malta; alt. Former Vessel Flag Tuvalu; alt. Former Vessel Flag Tanzania; Additional Sanctions Information—Subject to Secondary Sanctions; Vessel Registration Identification IMO 9079092; MMSI 572442210 (vessel) [IRAN] (Linked To: NATIONAL IRANIAN TANKER COMPANY).

2. NYOS (f.k.a. BRAWNY; f.k.a. MARIGOLD; f.k.a. NABI) (T2DS4) Crude Oil Tanker 298,731DWT 156,809GRT None Identified flag; Former Vessel Flag Malta; alt. Former Vessel Flag Tuvalu; alt. Former Vessel Flag Tanzania; Additional Sanctions Information—Subject to Secondary Sanctions; Vessel Registration Identification IMO 9079080; MMSI 572443210 (vessel) [IRAN] (Linked To: NATIONAL IRANIAN TANKER COMPANY).

3. SANCHI (f.k.a. GARDENIA; f.k.a. SEAHORSE; f.k.a. SEPID) (T2EF4) Crude Oil Tanker 164,154DWT 85,462GRT None Identified flag; Former Vessel Flag Malta; alt. Former Vessel Flag Tuvalu; alt. Former Vessel Flag Tanzania; Additional Sanctions Information—Subject to Secondary Sanctions; Vessel Registration Identification IMO 9356608; MMSI 572455210 (vessel) [IRAN] (Linked To: NATIONAL IRANIAN TANKER COMPANY).

4. ATLANTIC (f.k.a. SEAGULL) Crude Oil Tanker Liberia flag; Additional Sanctions Information—Subject to Secondary Sanctions; Vessel Registration Identification IMO 9107655 (vessel) [IRAN].

5. AURA (f.k.a. OCEAN PERFORMER) Crude Oil Tanker Mongolia flag; Former Vessel Flag Liberia; Additional Sanctions Information—Subject to Secondary Sanctions; Vessel Registration Identification IMO 9013749 (vessel) [IRAN].

6. BICAS (f.k.a. GLAROS) Crude Oil Tanker Liberia flag; Additional Sanctions Information—Subject to Secondary Sanctions; Vessel Registration Identification IMO 9077850 (vessel) [IRAN].

7. BRIGHT (f.k.a. ZAP) Crude Oil Tanker Mongolia flag; Former Vessel Flag Liberia; Additional Sanctions Information—Subject to Secondary Sanctions; Vessel Registration Identification IMO 9005235 (vessel) [IRAN].

8. CARIBO (f.k.a. NEREYDA) Crude Oil Tanker Panama flag; Additional Sanctions Information—Subject to Secondary Sanctions; Vessel Registration Identification IMO 9011246 (vessel) [IRAN].

9. YANGZHOU DAYANG DY905 (a.k.a. YARD NO. DY905 YANGZHOU D.) LPG Tanker 11,750DWT 8,750GRT Iran flag; Additional Sanctions Information—Subject to Secondary Sanctions; Vessel Registration Identification IMO 9575424 (vessel) [IRAN] (Linked To: NATIONAL IRANIAN TANKER COMPANY).

10. IRAN FAHIM Chemical/Products Tanker 34,900DWT 26,561GRT Iran flag; Additional Sanctions Information—Subject to Secondary Sanctions; Vessel Registration Identification IMO 9286140 (vessel) [IRAN] (Linked To: NATIONAL IRANIAN TANKER COMPANY).

11. IRAN FALAGH Chemical/Products Tanker 34,900DWT 25,000GRT Iran flag; Additional Sanctions Information—Subject to Secondary Sanctions; Vessel Registration Identification IMO 9286152 (vessel) [IRAN] (Linked To: NATIONAL IRANIAN TANKER COMPANY).

12. IMICO NEKA 456 (a.k.a. YARD NO. 456 IRAN MARINE) Shuttle Tanker 63,000DWT 40,800GRT Iran flag; Additional Sanctions Information—Subject to Secondary Sanctions; Vessel Registration Identification IMO 9404558 (vessel) [IRAN] (Linked To: NATIONAL IRANIAN TANKER COMPANY).

13. IMICO NEKA 457 (a.k.a. YARD NO. 457 IRAN MARINE) Shuttle Tanker 63,000DWT 40,800GRT Iran flag; Additional Sanctions Information—Subject to Secondary Sanctions; Vessel Registration Identification IMO 9404560 (vessel) [IRAN] (Linked To: NATIONAL IRANIAN TANKER COMPANY).

Dated: April 27, 2023.
Andrea M. Gacki
Director, Office of Foreign Assets Control, U.S. Department of the Treasury.

[FR Doc. 2023-09274 Filed 5-1-23; 8:45 am]

BILLING CODE 4810-AL-P